DEPARTMENT OF DEFENSE

Department of the Army

Availability for Non-Exclusive, Exclusive, or Partially Exclusive Licensing of U.S. Provisional Patent Application Concerning Novel Use and Method of Rapamycin To Treat Toxic Shock

AGENCY: Department of the Army, DoD.

ACTION: Notice.

SUMMARY: Announcement is made of the availability for licensing of the invention set forth in U.S. Provisional Patent Application Serial No. 61/045,184 entitled “Novel Use and Method of Rapamycin to Treat Toxic Shock,” filed August 5, 2009. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Assessment, (301) 619-6664, both at telefax (301) 619-5034.

SUPPLEMENTARY INFORMATION: The invention relates to the use of Rapamycin as a treatment of toxic shock induced by staphylococcal exotoxins; more specifically, staphylococcal enterotoxins that are potent activators for human T cells and can cause lethal shock.

Brenda S. Bowen,
Army Federal Register Liaison Officer.

[FR Doc. E9-22554 Filed 9-17-09; 8:45 am]

BILLING CODE 3710-08-P